SMALL BUSINESS ADMINISTRATION

[Disaster Declaration #17165 and #17166; Pennsylvania Disaster Number PA-00113]

Presidential Declaration Amendment of a Major Disaster for the Commonwealth of Pennsylvania

AGENCY: U.S. Small Business Administration.

ACTION: Amendment 1.

SUMMARY: This is an amendment of the Presidential declaration of a major disaster for the Commonwealth of Pennsylvania (FEMA-4618-DR), dated 09/10/2021.

Incident: Remnants of Hurricane Ida.

Incident Period: 08/31/2021 through 09/05/2021.

DATES: Issued on 09/24/2021.

Physical Loan Application Deadline Date: 11/09/2021.

Economic Injury (EIDL) Loan Application Deadline Date: 06/10/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the Commonwealth of Pennsylvania, dated 09/10/2021, is hereby amended to include the following areas as adversely affected by the disaster:

Primary Counties (Physical Damage and Economic Injury Loans): Bedford, Northampton.

Contiguous Counties (Economic Injury Loans Only):

Pennsylvania: Blair, Cambria, Carbon, Fulton, Huntingdon, Monroe, Somerset.

Maryland: Allegany.

All other information in the original declaration remains unchanged.

(Catalog of Federal Domestic Assistance Number 59008)

James Rivera,
Associate Administrator for Disaster Assistance.

[FR Doc. 2021-21325 Filed 9-29-21; 8:45 am]

BILLING CODE 8026-03-P